DEPARTMENT OF HEALTH AND HUMAN SERVICES

National Institutes of Health

Center for Scientific Review Amended; Notice of Meeting

Notice is hereby given of a change in the meeting of the Center for Scientific Review Special Emphasis Panel, June 27, 2011, 8:30 a.m. to June 27, 2011, 6 p.m. The River Inn, 924 25th Street, NW., Washington, DC 20037 which was published in the Federal Register on June 16, 2011, 76 FR 35223.

The meeting will be held July 15, 2011 at One Washington Circle Hotel, One Washington Circle, NW., Washington, DC 20037. The meeting time remains the same. The meeting is closed to the public.

Dated: June 24, 2011.
Jennifer S. Spaeth,
Director, Office of Federal Advisory Committee Policy.

[FR Doc. 2011-16615 Filed 6-30-11; 8:45 am]

BILLING CODE 4140-01-P